DEPARTMENT OF AGRICULTURE

Forest Service

Plan Revision for Coconino National Forest; Coconino, Gila and Yavapai Counties, AZ

AGENCY: Forest Service, USDA.

ACTION: Notice of intent to revise plan.

SUMMARY: As directed by the National Forest Management Act, the USDA Forest Service is preparing the Coconino National Forest's revised land management plan (Forest Plan) and will also prepare an environmental impact statement (EIS) for this revised Forest Plan. This notice briefly describes the nature of the decision to be made, the proposed action and need for change, and information concerning public participation. It also provides estimated dates for filing the EIS and the names and addresses of the responsible agency official and the individuals who can provide additional information. Finally, this notice briefly describes the applicable planning rule and how work done on the plan revision under the 2008 planning rule will be used or modified for completing this plan revision.

The revised land management plan will supersede the land management plan previously approved by the Regional Forester on August 28, 1987, that has had twenty-two subsequent amendments covering a variety of topics ranging from community concerns, changes to administrative and recreation sites, special use permits, noxious weeds, and additional direction for the Mexican spotted owl, the northern goshawk, and old growth. This amended 1987 Plan will remain in effect until the revised plan takes effect.

DATES: Comments concerning the need for change provided in this notice will be most useful in the development of the draft revised plan and draft environmental impact statement if received by June 30, 2010. The agency expects to release a draft revised plan and draft environmental impact statement for formal comment by winter, 2011-2012 and a final revised plan and final environmental impact statement by fall, 2012.

ADDRESSES: Send written comments to: Plan Revision Team, Coconino National Forest, 1824 South Thompson St. Flagstaff, AZ 86001. Comments may also be sent via e-mail to comments-southwestern-coconino@fs.fed.us.

FOR FURTHER INFORMATION CONTACT: Yewah Lau, Forest Planner, Coconino National Forest, 1824 South Thompson Street, Flagstaff, AZ 86001, ylau@fs.fed.us, 928-527-3411. Information on this revision is also available at the Coconino National Forest revision Web site: http://www.fs.fed.us/r3/coconino/plan-revision.shtml.

Individuals who use telecommunication devices for the deaf (TDD) may call the Federal Information Relay Service (FIRS) at 1-800-877-8339 between 8 a.m. and 8 p.m., Eastern Time Monday through Friday.

SUPPLEMENTARY INFORMATION:

Name and Address of the Responsible Official

Corbin Newman, Regional Forester, Southwestern Region, 333 Broadway SE, Albuquerque, NM 87102.

Nature of the Decision To Be Made

The Coconino National Forest (Forest) is preparing and EIS to revise the current Forest Plan. The EIS process is meant to inform the Regional Forester so that he can decide which alternative best meets the need to achieve quality land management under the sustainable multiple-use management concept to meet the diverse needs of people while protecting forest resources, as required by the National Forest Management Act and the Multiple Use Sustained Yield Act.

The revised Forest Plan will describe the strategic intent of managing the Coconino National Forest for the next 10 to 15 years and will address the need for change described below. The revised Forest Plan will provide management direction in the form of goals (desired conditions), objectives, suitability determinations, standards, guidelines, and a monitoring plan. It may also make new recommendations for wilderness, research natural areas, and other Special Areas.

This decision will not authorize project-level activities on the Forest. The designation of routes, trails, and areas for motorized vehicle travel are not considered during plan revision but are addressed in a separate EIS for public travel management planning on the Coconino National Forest. Some issues (e.g., hunting regulations), although important, are beyond the authority or control of the Coconino National Forest and will not be considered. In addition, some issues, such as Wild and Scenic River suitability determinations, may not be undertake at this time, but addressed later in future planning efforts.

Need for Change and Proposed Action

According to the National Forest Management Act, Forest Plans are to be revised on a 10 to 15 year cycle. Social and economic conditions have changed since the 1987 Plan, and it is necessary to provide new management direction that balances current social, economic, and ecological demands on forest resources, so that the resources are maintained into the future. Public and employee collaboration, along with science-based evaluations, helped the plan revision team identify what current guidance is working, what new conditions need to be addressed, and what ongoing challenges could be better addressed. Three primary need for change topics have been identified: (1) Recreation; (2) community-forest interaction; and (3) maintenance and improvement of ecosystem health. The need for change is more fully described in the Analysis of the Management Situation (AMS) report, which is available on the Forest's Web site: http://www.fs.fed.us/r3/coconino/projects/plan-revision/index.shtml.

The proposed action is to revise the current Forest Plan to address these three topics—Recreation: Recreational use of the Forest has changed significantly since the current Forest Plan was developed. Some related concerns include increased use of developed recreation areas; changing populations; increased conflicts in values, culture and expectations; new types of recreation; increased recognition of tribal cultural uses and values; public safety; and pressures on riparian and wilderness areas.

Therefore, the revised Forest Plan should:

• Update desired conditions and other plan components for recreation and scenery management where guidance is partial or absent in the current Forest Plan.

• Update plan components for existing Special Areas.

• Where appropriate, incorporate the intent of Special Area proposals received by the Forest into revised Plan desired conditions. After incorporation, the Forest Leadership Team will reconsider the remaining Special Area proposals for possible recommendation as Special Areas. Previously proposed Research Natural Areas and potential wilderness areas will be considered later in the revision process.

Community-Forest Interaction: Relationships with the community have changed significantly since the current Forest Plan was developed. Some related concerns include a shift from a commodity-based to service-based economy, the influence of forest management activities on the local economy, population growth and loss of access or open space, and increased demand for community infrastructure.

Therefore, the revised Forest Plan should:

• Update Plan language to acknowledge open space values.

• Update Plan language to acknowledge potential future community expansion desires.

• Update guidance on energy and mineral development.

• Provide guidance related to forest products and consideration of culturally important forest products.

• Clarify regulatory authorities relating to air quality and include approaches for addressing smoke emissions.

• Review and update Plan guidance on communication sites.

Maintenance and Improvement of Ecosystem Health: Since the development of the current Forest Plan, there is new knowledge of the forest ecosystems, and the emphasis of forest management has shifted from timber outputs to the maintenance and improvement of ecosystem health. Ecosystem health related concerns include forest resilience, changed frequency and severity of natural disturbances in fire-adapted ecosystems, the decline of aspen, the loss of understory species, lack of current plan direction for rarer ecosystems (such as tundra, spruce-fir, and riparian), susceptibility to catastrophic disturbances (fire, drought, insects and disease), climate change, invasive species, and habitat connectivity.

Therefore, the revised Forest Plan should:

• Update desired conditions and objectives for soil resources.

• Integrate and update management direction for riparian, aquatic, and water resources.

• Incorporate desired conditions that reflect the composition, structure, and natural disturbance attributes appropriate for the different ecosystems, and integrate desired conditions across different resource areas.

• Address non-native invasive animals (including invertebrates) and grasses.

• Ensure plan components address concerns of Forest analysis species and their habitat.

• Acknowledge the importance of habitat connectivity.

• Consider strategies to address effects of climate change.

Though the needs for change identified in the AMS report are the primary drivers of plan revision, they do not represent a comprehensive list of needed changes. Review of the current Forest Plan identified other needed updates. Direction in the existing plan that is still current and timely will be carried forward into the revised plan, but other direction may be modified or removed for the following reasons:

• Administrative functions, such as budgeting, are described rather than the desired conditions of land and resources;

• Duplications or conflicts exist with direction found in existing laws, regulations or policy; or

• The plan is based on outdated information, such as policies, schedules of activities, or science.

Public Involvement

Public involvement and collaboration has already occurred. The Coconino National Forest plan revision team provided multiple ways for the public, other agencies, and tribes to contribute ideas about how the current Forest Plan needs to change or improve including topics not addressed in the plan. Public involvement began in earnest in mid-2006. Formal and informal meetings, information in the Coconino National Forest Annual Stakeholders Report, letters, e-mails, phone calls, radio announcements, and postings to the Coconino National Forest webpage were used to share and gather information and encourage participation. Plan revision team members also gave presentations, went to the field, and met with individuals and groups. Four topic-based workgroups were also formed to focus on Special Areas, socio-economic diversity, ecological diversity, and species diversity. Information collected from the public was used to identify needs for change in the current Forest Plan. Topics brought forward by the public and other agencies were summarized in the Analysis of the Management Situation report and presented to the Forest leadership team. These topics included: species diversity, special management areas, livestock grazing, recreation, roads and trails, fuel reduction, forest products and industry, water and riparian areas, open space, land sale exchange, and places of interest.

The Forest will continue regular and meaningful consultation and collaboration with tribal nations on a government-to-government basis to address issues that significantly or uniquely affect their communities.

The Forest desires to continue collaborative efforts with members of the public who are interested in forest management, as well as Federal and State agencies, local governments, and private organizations. Focused public meetings to gather input on desired conditions for specific forest resources are anticipated to be held in the summer/fall of 2010. In addition, a larger public information meeting will be planned to provide general information and collect public comments when the draft plan is near completion. The dates, times, and locations of these meetings will be posted on the Forest's Web site: http://www.fs.fed.us/r3/coconino/plan-revision.shtml. The information gathered at these meetings, as well as other feedback will be used to prepare the draft revised Forest Plan and draft EIS.

It is important that reviewers provide their comments at such times and in such a way that they are useful to the Agency's preparation of the revised plan and the EIS. Therefore, comments on the proposed action and need for change will be most valuable if received by June 30, 2010, and should clearly articulate the reviewers' concerns. The submission of timely and specific comments can affect a reviewer's ability to participate in subsequent administrative or judicial review. At this time, we anticipate using the 2000 planning rule pre-decisional objection process (36 CFR 219.32) for administrative review.

Comments received in response to this solicitation, including the names and addresses of those who comment will be part of the public record. Comments submitted anonymously will be accepted and considered.

Applicable Planning Rule

Preparation of the revised plan was underway when the 2008 National Forest System land management planning rule was enjoined on June 30, 2009, by the United States District Court for the Northern District of California (Citizens for Better Forestry v. United States Department of Agriculture, 632 F. Supp. 2d 968 (N.D. Cal. June 30, 2009)). On December 18, 2009, the Department reinstated the previous planning rule, commonly known as the 2000 planning rule in the Federal Register (Federal Register, Volume 74, No. 242, Friday, December 18, 2009, pages 67059 thru 67075). The transition provisions of the reinstated rule (36 CFR 219.35 and appendices A and B) allow use of the provisions of the National Forest System land and resource management planning rule in effect prior to the effective date of the 2000 Rule (November 9, 2000), commonly called the 1982 planning rule, to amend or revise plans. The Coconino National Forest has elected to use the provisions of the 1982 planning rule, including the requirement to prepare an EIS, to complete its plan revision.

Although the 2008 planning rule is no longer in effect, information gathered prior to the court's injunction is useful for completing the plan revision using the provisions of the 1982 planning rule. The Coconino National Forest has concluded that the following material developed during the plan revision process to date is appropriate for continued use in the revision process. These materials are also available on the Forest's Web site: http://www.fs.fed.us/r3/coconino/projects/plan-revision/index.shtml.

• The Economic and Social Sustainability Report that was completed in March 2008 is not affected by the change in planning rule and will continue to be used as a reference in the planning process. Any new available information since this report was completed will also be considered in the plan revision process.

• The inventory and evaluation of potential wilderness areas that were previously underway, are consistent with appropriate provisions of the 1982 planning rule, and will be brought forward into this plan revision process.

• The Ecological Sustainability Report that was completed in September 2009 was near completion at the time of the 2008 rule injunction. It was amended to be in conformance with the 2000 planning rule transition language and 1982 planning rule provisions. It will continue to be used as a reference in the planning process as appropriate. This is scientific information and is not affected by the change of planning rule. Any new available information since this report was completed will also be considered in the plan revision process.

• Additional background reports, assessments, and information generated for the Coconino plan revision effort may be useful; some of which are available on the above listed Coconino plan revision documentation Web site.

As necessary or appropriate, the above listed material will be further adjusted as part of the planning process using the provisions of the 1982 planning rule.

Authority: 16 U.S.C. 1600-1614; 36 CFR 219.35 (74 FR 67073-67074.)

Dated: May 4, 2010.
M. Earl Stewart,
Forest Supervisor.

[FR Doc. 2010-11364 Filed 5-11-10; 8:45 am]

BILLING CODE 3410-11-P